Proclamation 8154 of June 1, 2007

National Homeownership Month, 2007

By the President of the United States of America

A Proclamation

Owning a home is part of the American dream, and National Homeownership Month is an opportunity to encourage our citizens to explore the benefits of owning a home.

Owning a home provides a source of security and stability for many of our citizens. My Administration is committed to fostering an ownership society and helping more Americans realize the great promise of our country. Today, nearly 70 percent of Americans own their homes, and the rate of minority homeownership has climbed to above 50 percent since I took office in 2001. The Department of Housing and Urban Development is continuing to enforce the Fair Housing Act to confront housing discrimination and advance equal housing opportunities for everyone. We are also working with the Congress to modernize the Federal Housing Administration in order to better provide safe, fair, and affordable mortgages to first-time homeowners, minorities, and individuals with less than perfect credit. In addition, the American Dream Downpayment Act of 2003 is helping thousands of low to moderate income and minority families with the downpayment and closing costs on their homes. My Administration also continues to support more funding for the Self-Help Homeownership Opportunity Program and the HOME Investment Partnership Program, which provide low-income citizens and minorities with more homeownership opportunities.

During National Homeownership Month and throughout the year, I urge citizens to consider homeownership opportunities in their communities, and I applaud American homeowners for helping fuel the economy.

NOW, THEREFORE, I, GEORGE W. BUSH, President of the United States of America, by virtue of the authority vested in me by the Constitution and laws of the United States, do hereby proclaim June 2007 as National Homeownership Month. I call upon the people of the United States to join me in recognizing the importance of homeownership and building a more prosperous future.

IN WITNESS WHEREOF, I have hereunto set my hand this first day of June, in the year of our Lord two thousand seven, and of the Independence of the United States of America the two hundred and thirty-first.

[FR Doc. 07-2827

Filed 6-4-07; 8:55 am]

Billing code 3195-01-P